DEPARTMENT OF TRANSPORTATION

Federal Aviation Administration

14 CFR Part 39

[Docket No. 2003-NM-131-AD; Amendment 39-13786; AD 2004-18-08]

RIN 2120-AA64

Airworthiness Directives; Boeing Model 727, 727C, 727-100, -100C, and -200 Series Airplanes

AGENCY: Federal Aviation Administration, DOT.

ACTION: Final rule.

SUMMARY: This amendment adopts a new airworthiness directive (AD), applicable to certain Boeing Model 727, 727C, 727-100, -100C, and -200 series airplanes. This amendment requires an inspection of the forward trunnion attach fittings of the main landing gear (MLG), inspections of the attach fitting holes of the forward trunnion attach fittings if necessary, replacement of the forward trunnion attach fittings if necessary, and corrective actions if necessary. This action is necessary to detect and correct cracks and corrosion on the attach fitting holes of the forward trunnion attach fittings of the MLG, which could result in the collapse of the MLG. This action is intended to address the identified unsafe condition.

DATES: Effective October 13, 2004.

The incorporation by reference of a certain publication listed in the regulations is approved by the Director of the Federal Register as of October 13, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Daniel F. Kutz, Aerospace Engineer, Airframe Branch, ANM-120S, FAA, Seattle Aircraft Certification Office, 1601 Lind Avenue, SW., Renton, Washington 98055-4056; telephone (425) 917-6456; fax (425) 917-6590.

SUPPLEMENTARY INFORMATION: A proposal to amend part 39 of the Federal Aviation Regulations (14 CFR part 39) to include an airworthiness directive (AD) that is applicable to certain Boeing Model 727, 727C, 727-100, -100C, and -200 series airplanes was published in the Federal Register on June 16, 2004 (69 FR 33587). That action proposed to require an inspection of the forward trunnion attach fittings of the main landing gear, inspections of the attach fitting holes of the forward trunnion attach fittings if necessary, replacement of the forward trunnion attach fittings if necessary, and corrective actions if necessary.

Comments

Interested persons have been afforded an opportunity to participate in the making of this amendment. Due consideration has been given to the single comment received.

The commenter supports the proposed rule.

Conclusion

After careful review of the available data, including the comment noted above, the FAA has determined that air safety and the public interest require the adoption of the rule as proposed.

Cost Impact

There are approximately 523 airplanes of the affected design in the worldwide fleet. The FAA estimates that 309 airplanes of U.S. registry will be affected by this AD, that it will take approximately 1 work hour per airplane to accomplish the required inspection, and that the average labor rate is $65 per work hour. Based on these figures, the cost impact of the AD on U.S. operators is estimated to be $20,085, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-18-08 Boeing: Amendment 39-13786. Docket 2003-NM-131-AD.

Applicability: Model 727, 727C, 727-100, -100C, and -200 series airplanes, line numbers 1 through 887 inclusive; certificated in any category.

Compliance: Required as indicated, unless accomplished previously.

To detect and correct cracks and corrosion on the attach fitting holes of the forward trunnion attach fittings of the main landing gear (MLG), which could result in the collapse of the MLG, accomplish the following:

Service Bulletin References

(a) The term “service bulletin,” as used in this AD, means Boeing Alert Service Bulletin 727-57A0132, Revision 3, dated March 20, 2003.

Initial Inspection

(b) Perform an inspection of the forward trunnion attach fittings of the MLG to determine the part number (P/N) of the attach fitting, in accordance with “Part 1” of the Accomplishment Instructions of the service bulletin, at the latest of the times specified in paragraphs (b)(1), (b)(2), and (b)(3) of this AD:

(1) Prior to airplanes reaching 240 months old since the date of issuance of the original Airworthiness Certificate or the date of issuance of the original Export Certificate of Airworthiness; or

(2) Within 18 months after the effective date of this AD; or

(3) Within 120 months after the last inspection/rework/repair of the attach fitting per Boeing Service Bulletin 727-57A0132, dated June 28, 1974, Revision 1, dated October 31, 1975, or Revision 2, dated April 24, 1981; or Boeing Alert Service Bulletin 727-57A0132, Revision 3, dated March 20, 2003.

Corrective Actions

(c) If, during the inspection required by paragraph (b) of this AD, both attach fittings are found to have P/N 65-19296-9, -10, -13, or -14; P/N 65-99909-1724 or -1727; P/N 65-19296U13 or P/N 65-19296U14 (attach fitting made of 7075-T73511 or 7050-T7451 aluminum); no further action is required by this paragraph.

(d) If, during the inspection required by paragraph (b) of this AD, any attach fitting is found to have P/N 65-19296-1 through -8 inclusive (attach fitting made of 7079-T6 aluminum): Before further flight, perform the actions in paragraphs (d)(1) and (d)(2) of this AD, as applicable.

(1) Do detailed and high frequency eddy current inspections of the attach fitting holes for cracks and corrosion, repair any crack or corrosion found, and rework the attach fitting holes, in accordance with Figures 4 and 5 of the service bulletin, except as provided by paragraph (d)(2) of this AD.

(2) If the attach fitting hole cannot be reworked or repaired in accordance with Figures 4 and 5 of the service bulletin: Before further flight, replace the attach fitting with a new attach fitting that has P/N 65-19296-9, -10, -13, or -14, P/N 65-99909-1724 or -1727, P/N 65-19296U13, or P/N 65-19296U14, in accordance with paragraph 7 of “Part II” of the Accomplishment Instructions of the service bulletin. Accomplishment of this replacement is terminating action for that fitting.

Terminating Action

(e) Within 120 months after the effective date of this AD, replace attach fittings that have P/N 65-19296-1 through -8 (attach fittings made of 7079-T6 aluminum) with new attach fittings that have P/N 65-19296-9, -10, -13, or -14, P/N 65-99909-1724 or -1727, P/N 65-19296U13, or P/N 65-19296U14 (attach fittings made of 7075-T73511 or 7050-T7451 aluminum), in accordance with paragraph 7 of “Part II” of the Accomplishment Instructions of the service bulletin. Replacement of all attach fittings made of 7079-T6 aluminum with new attach fittings made of 7075-T73511 or 7050-T7451 aluminum terminates the requirements of paragraph (d) of this AD.

Parts Installation

(f) As of the effective date of this AD, no person shall install, on any airplane, an attach fitting, P/N 65-19296-1, -2, -3, -4, -5, -6, -7, or -8 (attach fitting made of 7079-T6 aluminum), unless it has been inspected/reworked/repaired in accordance with paragraph (d) of this AD.

Alternative Methods of Compliance

(g)(1) In accordance with 14 CFR 39.19, the Manager, Seattle Aircraft Certification Office, FAA, is authorized to approve alternative methods of compliance (AMOCs) for this AD.

(2) An AMOC that provides an acceptable level of safety may be used for any rework/repair required by this AD, if it is approved by a Boeing Company Designated Engineering Representative (DER) who has been authorized by the Manager, Seattle ACO, to make such findings. For a rework/repair method to be approved, the approval must specifically reference this AD.

Incorporation by Reference

(h) The actions shall be done in accordance with Boeing Alert Service Bulletin 727-57A0132, Revision 3, dated March 20, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(i) This amendment becomes effective on October 13, 2004.

Issued in Renton, Washington, on August 26, 2004.
Kevin M. Mullin,
Acting Manager, Transport Airplane Directorate, Aircraft Certification Service.

[FR Doc. 04-20205 Filed 9-7-04; 8:45 am]

BILLING CODE 4910-13-P